DEPARTMENT OF THE INTERIOR

Bureau of Reclamation

[RR02331000, 14XR0680A4, RX.00224994.2000000]

Notice of Proposed New Fee Site, Stony Gorge Reservoir, Elk Creek, California; Federal Lands Recreation Enhancement Act

AGENCY: Bureau of Reclamation, Interior.

ACTION: Notice.

SUMMARY: The Bureau of Reclamation is proposing to charge and retain fees for overnight camping at Stony Gorge Reservoir. Special Recreation Event authorization fees are also proposed to be retained under this authority.

DATES: Submit written comments on the new fee site on or before June 3, 2015. New fees are scheduled to begin on this date. Public meeting dates and locations will be announced locally.

ADDRESSES: Send written comments on the proposed new fee site to Brian Person, Area Manager, Northern California Area Office, Bureau of Reclamation, 16349 Shasta Dam Boulevard, Shasta Lake, California 96019.

FOR FURTHER INFORMATION CONTACT: Richard Robertson, Chief, Water and Lands Division, P.O. Box 988, Willows, California 95988-0988; or call 530-934-1383. Information about proposed fee changes can also be found on the Bureau of Reclamation, Northern California Area Office Web site: http://www.usbr.gov/mp/ncao.

SUPPLEMENTARY INFORMATION: The proposed fee for overnight camping will be $15 per site per night for all non-group site camping. Group site overnight fees will be $75. Interagency Senior Passes will be accepted for individual overnight camping. An analysis of the nearby Federal and state recreation offerings with similar amenities shows that the proposed fees are reasonable and typical of similar sites in the area. Funds from fees will be used for the continued operation, maintenance, and improvements of the reservoir area recreation amenities and related programs.

The Federal Lands Recreation Enhancement Act (Title VII, Pub. L. 108-447) directed the Secretary of the Interior to publish a 6-month advance notice in the Federal Register whenever new recreation fee areas are established. Once public involvement is complete, these new fees will be reviewed by the Bureau of Reclamation Mid-Pacific Regional Director prior to a final decision and implementation. People wanting to reserve these recreation sites would need to do so through the National Recreation Reservation Service at www.recreation.gov, or by calling 1-877-444-6777 when it becomes available.

Public Disclosure

Before including your address, phone number, email address, or other personal identifying information in your comment, you should be aware that your entire comment—including your personal identifying information—may be made publicly available at any time. While you can ask us in your comment to withhold your personal identifying information from public review, we cannot guarantee that we will be able to do so.

Dated: December 1, 2014.
Brian Person,
Area Manager, Northern California Area Office.

[FR Doc. 2014-28569 Filed 12-4-14; 8:45 am]

BILLING CODE 4332-90-P